DEPARTMENT OF COMMERCE

Foreign-Trade Zones Board

[Docket 47-2011]

Foreign-Trade Zone 71—Windsor Locks, CT Application for Expansion

An application has been submitted to the Foreign-Trade Zones Board (the Board) by the Economic and Industrial Development Commission of Windsor Locks (grantee of FTZ 71) requesting authority to expand the zone to include a new site in East Granby/Windsor, Connecticut. The application was submitted pursuant to the provisions of the Foreign-Trade Zones Act, as amended (19 U.S.C. 81a-81u), and the regulations of the Board (15 CFR part 400). It was formally filed on July 5, 2011.

FTZ 71 was established by the Board on July 8, 1981 (Board Order 177, 46 FR 36220, 7/14/81). The zone currently consists of one site (17.5 acres) at the Crown Industrial Park, 399 Turnpike Road, Windsor Locks.

The applicant is requesting authority to expand the zone to include the following site: Proposed Site 2 (390 acres)—within the 600-acre New England Tradeport business park located at the intersection of Route 20 and International Drive in East Granby and Windsor. The site will provide warehousing and distribution services to area businesses. No specific manufacturing authority is being requested at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is September 9, 2011. Rebuttal comments in response to material submitted during the foregoing period may be submitted during the subsequent 15-day period to September 26, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Camille Evans at Camille.Evans@trade.gov or (202) 482-2350.

Dated: July 5, 2011.
Andrew McGilvray,
Executive Secretary.

[FR Doc. 2011-17333 Filed 7-8-11; 8:45 am]

BILLING CODE 3510-DS-P